DEPARTMENT OF TRANSPORTATION

Federal Aviation Administration

14 CFR Part 71

[Airspace Docket No. 00-ANM-31]

Establishment of Class E Airspace, Bellingham, WA

AGENCY: Federal Aviation Administration (FAA), DOT.

ACTION: Final rule.

SUMMARY: This action establishes Class E airspace at the surface of Bellingham International Airport, Bellingham, WA. Class E controlled airspace, above the surface of the earth, is required to contain aircraft executing procedures in the Instrument Flight Rules (IFR). The effect of this action clarifies when two-way radio communication with Bellingham ATCT is required and to provide adequate Class E controlled airspace between the surface and the en route phase of flight for aircraft executing Instrument Flight Rules (IFR) operations at Bellingham International Airport, Bellingham, WA, when the Bellingham ATCT is closed. The FAA establishes Class E airspace where necessary to contain aircraft transitioning between the terminal and en route environments. The effect of this action is to provide adequate controlled airspace for IFR operations at Bellingham International Airport, Bellingham, WA.

EFFECTIVE DATE: 0901 UTC, February 21, 2002.

FOR FURTHER INFORMATION CONTACT: Brian Durham, ANM-520.7, Federal Aviation Administration, Docket No. 00-ANM-31, 1601 Lind Avenue SW, Renton, Washington 98055-4056; telephone number: (425) 227-2527.

SUPPLEMENTARY INFORMATION:

History

On August 14, 2001, the FAA proposed to amend Title 14 Code of Federal Regulations, part 71 (14 CFR part 71) by establishing Class E airspace at Bellingham, WA, in order to provide a safer IFR environment at Bellingham International Airport, Bellingham, WA (66 FR 42618). This amendment established Class E2 surface area controlled airspace at Bellingham, WA, to contain IFR aircraft operating in the Bellingham terminal area during the hours when the Bellingham ATCT is closed. Interested parties were invited to participate in the rulemaking proceeding by submitting written comments on the proposal. A comment was received from FAA, AVN-500. A discrepancy was found in the Airport Reference Point coordinates. This changes is reflected in the legal description. This change is considered to be an insignificant

The Rule

This amendment to Title 41 Code of Federal Regulations, part 71 (14 CFR part 71) by establishing Class E controlled airspace at Bellingham, WA. Bellingham ATCT recently changed its operating hours to less than a 24-hour-a-day operation. In the absence of the Class D airspace, Class E controlled airspace above the surface of the earth is required for aircraft executing IFR operations at Bellingham International Airport when the ATCT is closed. The FAA establishes Class E airspace where necessary to contain transitioning between the terminal and en route environments. This rule is designed to provide for the safe and efficient use of the navigable airspace and to promote safe flight operations under IFR at the Bellingham International Airport and between the terminal and en route transition stages.

The area will be depicted on aeronautical charts for pilot reference. The coordinates for this airspace docket are based on North American Datum 83. Class E airspace areas designated as surface areas, are published in Paragraph 6005, of FAA Order 7400.9J dated August 31, 2001, and effective September 16, 2001, which is incorporated by reference in 14 CFR 71.1. The Class E airspace designation listed in this document will be published subsequently in the Order.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Order 7400.9J, Airspace Designations and Reporting Points, dated August 31, 2001 and effective September 16, 2001, is amended as follows:

Paragraph 6002 Class E airspace designated as surface area for an airport.

* * * * *

ANM WA E2 Bellingham, WA [New]

Bellington International Airport

(Lat. 48°56′34″ N., long. 122°32′15″ W.)

Whatcom VORTAC/CC

(Lat. 48°56′43″ N., long. 122°34′45″ W.)

Within a 4-mile radius of Bellingham International Airport, and within the 1.8 miles each side of the Watchcom VORTAC 169° radial extending north from the 4-mile radius of the Bellington International Airport to 2.7 miles south of the VORTAC. This Class E airspace is effective during specific dates and times established in advance by a Notice to Airmen. The effective date and time will thereafter be continuously published in the Airport/Facility Directory.

Issued in Seattle, Washington, on December 26, 2001.
Daniel A. Boyle,
Assistant Manager, Air Traffic Division, Northwest Mountain Region.

[FR Doc. 02-161 Filed 1-3-02; 8:45 am]

BILLING CODE 4910-13-M